CORPORATION FOR NATIONAL AND COMMUNITY SERVICE

Announcement of Anticipated Availability of Funds for Grants to Support the Martin Luther King, Jr. Service Day Initiative

AGENCY: Corporation for National and Community Service.

ACTION: Notice of funding opportunity.

SUMMARY: The Corporation for National and Community Service (hereinafter the “Corporation”) announces the anticipated availability of funds for Fiscal Year (FY) 2004 to award up to $500,000 in grant funds to pay for the Federal share of the cost of planning and carrying out service opportunities in conjunction with the federal legal holiday honoring the birthday of Martin Luther King, Jr. on January 19, 2004. The Corporation invites applications for these grants. By law, any entity otherwise eligible for assistance under the national service laws is eligible to receive a grant under this announcement. The applicable laws include the National and Community Service Act of 1990, as amended, and the Domestic Volunteer Service Act of 1973, as amended. The federal grants we provide for this project, together with all other federal funds you use to plan or carry out the service opportunity, may not exceed 30 percent of the total cost.

The purpose of the grants is to mobilize more Americans to observe the Martin Luther King, Jr. federal holiday as a day of service in communities and to bring people together around the common focus of service to others. To achieve this, depending upon appropriations provided by the Congress for the Corporation, and based upon previous allocations of funding for this activity, we intend to disburse up to $500,000 in grant funds to support approved service opportunities. Eligible organizations may apply for a grant to support national service and community volunteering projects. Grant awards may range from $2,500 to $7,500. We seek proposals that are cost effective, based on the number of people serving and being served, and the service performed.

This program announcement is subject to the appropriation of funds and is a contingency action taken to ensure that, should funds become available for this purpose, applications can be processed in an orderly manner, and funds can be awarded in a timely fashion.

Note: This notice is not a complete description of the activities to be funded or of the application requirements. For supplementary information and application guidelines, including the Corporation state office contact information, go to the Corporation's Web site at http://www.cns.gov/whatshot/notices.html.

DATES: The Corporation generally requires applicants to apply through eGrants, our on-line grants management system. The deadline for eGrants applications is 5 p.m. Eastern Time on October 2, 2003. If for some legitimate reason it is necessary for you to submit a paper application, please notify ahead of time the appropriate Corporation for National and Community Service office that serves your state (see supplementary information). All the applications must be received by 5 p.m. Eastern Time on October 2, 2003, at the Corporation for National and Community Service in Washington, DC. We anticipate announcing selections under this Notice no later than November 14, 2003.

ADDRESSES: You may access eGrants through our Web site at http://www.nationalservice.org/egrants/. Please allow adequate time to access and submit an application through eGrants. Technical assistance is available Monday through Friday from 8 a.m.-6 p.m. Eastern Time. If you cannot submit an application electronically, please notify ahead of time the appropriate Corporation office that is in your state or that provides service to your state. Submit paper application to the following address: Martin Luther King, Jr. Day of Service, Corporation for National and Community Service, 1201 New York Avenue NW., Room 8416-D, Washington DC 20525.

Due to delays in delivery of regular mail to government offices, there is no guarantee that a paper application sent by regular mail will arrive in time to be considered. We therefore suggest that, if submitting a paper application, you use U.S.P.S. priority mail or a commercial overnight delivery service to make sure that you meet the deadline. We will not accept an application that is submitted via facsimile or email.

FOR FURTHER INFORMATION CONTACT: For further information, contact the person listed for the Corporation office in your state (see Note above). You may request this notice in an alternative format for the visually impaired by calling (202) 606-5000, ext. 278. The Corporation's T.D.D. number is (202) 565-2799 and is operational between the hours of 9 a.m. and 5 p.m. Eastern Time.

Program Authority: 42 U.S.C. 12653(s).

Dated: September 2, 2003.
James F. Manning,
Acting Chief Executive Officer.

[FR Doc. 03-22660 Filed 9-4-03; 8:45 am]

BILLING CODE 6050-$$-P